AMTRAK REFORM COUNCIL

Notice of Meeting

AGENCY: Amtrak Reform Council.

ACTION: Notice of special public business meeting in Washington, DC.

SUMMARY: As provided in Section 203 of the Amtrak Reform and Accountability Act of 1997 (Reform Act), the Amtrak Reform Council (ARC) gives notice of a special public meeting of the Council. The meeting will begin at 1 p.m. with a presentation from H. Brent Coles, President of U.S. Conference of Mayors and Mayor of Boise, Idaho, on the importance of rail in U.S. cities; followed by a presentation from Florida DOT and Amtrak on plans for improved rail service in Florida. Also on the agenda is a presentation(s) from Rail Labor Organizations who represent Amtrak employees on issues of importance to the Council. The Council will conclude its business with a discussion of the staff working paper that deals with the Amtrak's ownership and operation of the Northeast Corridor (Washington, DC to Boston, MA).

DATES: The Business Meeting will be held on Thursday, September 7, 2000 from 1 p.m. to 6 p.m. This meeting is open to the public.

ADDRESSES: The Business Meeting will take place in the Captain's Room (which is on the floor below the lobby) of the Channel Inn Hotel on 650 Water Street, SW, Washington, DC 20024. Persons in need of special arrangements should contact the person listed below.

FOR FURTHER INFORMATION CONTACT: Deirdre O'Sullivan, Amtrak Reform Council, Room 7105, JM-ARC, 400 Seventh Street, SW, Washington, DC 20590, or by telephone at (202) 366-0591; FAX: 202-493-2061. For information regarding ARC's upcoming events, the agenda for meetings, the ARC's First Annual Report, information about ARC Council Members and staff, and much more, you can also visit the Council's website at www.amtrakreformcouncil.gov.

SUPPLEMENTARY INFORMATION: The ARC was created by the Amtrak Reform and Accountability Act of 1997 (Reform Act), as an independent commission, to evaluate Amtrak's performance and to make recommendations to Amtrak for achieving further cost containment, productivity improvements, and financial reforms. In addition, the Reform Act provides: that the Council is to monitor cost savings from work rules established under new agreements between Amtrak and its labor unions; that the Council submit an annual report to Congress that includes an assessment of Amtrak's progress on the resolution of productivity issues; and that, after a specified period, the Council has the authority to determine whether Amtrak can meet certain financial goals specified under the Reform Act and, if it finds that Amtrak cannot, to notify the President and the Congress.

The ARAA prescribes that the Council is to consist of eleven members, including the Secretary of Transportation and ten others nominated by the President and the leadership of the Congress. Members serve a five-year term.

Issued in Washington, DC, August 24, 2000.
Thomas A. Till,
Executive Director.

[FR Doc. 00-22024 Filed 8-28-00; 8:45 am]

BILLING CODE 4910-06-P